DEPARTMENT OF THE TREASURY

Internal Revenue Service

26 CFR Part 301

[TD 9462]

RIN 1545-BH91

Disregarded Entities and Excise Taxes; Correction

AGENCY: Internal Revenue Service (IRS), Treasury.

ACTION: Correction to final and temporary regulations.

SUMMARY: This document contains a correction to final and temporary regulations (TD 9462) that were published in the Federal Register on Monday, September 14, 2009, clarifying that a single-owner eligible entity that is disregarded as an entity separate from its owner for any purpose, but regarded as a separate entity for certain excise tax purposes, is treated as a corporation for tax administration purposes related to those excise taxes.

DATES: This correction is effective on October 14, 2009, and is applicable on September 14, 2009.

FOR FURTHER INFORMATION CONTACT: Michael H. Beker, (202) 622-3070 (not a toll-free number).

SUPPLEMENTARY INFORMATION:

Background

The final and temporary regulations that are the subject of this document is under section 7701 of the Internal Revenue Code.

Need for Correction

As published on Monday, September 14, 2009 (74 FR 46903), the final and temporary regulations (TD 9462) contain an error that may prove to be misleading and is in need of clarification.

Correction of Publication

Accordingly, the publication of the final and temporary regulations (TD 9462), which was the subject of FR Doc. E9-21987, is corrected as follows:

On page 46904, column three, the signature line, the word “Mundace” is corrected to read “Mundaca”.

Diane O. Williams,
Federal Register Liaison, Publications and Regulations Branch, Legal Processing Division, Associate Chief Counsel, (Procedure and Administration).

[FR Doc. E9-24656 Filed 10-13-09; 8:45 am]

BILLING CODE 4830-01-P